DEPARTMENT OF TRANSPORTATION

Federal Transit Administration

FTA Supplemental Fiscal Year 2011 Apportionments, Allocations, and Corrections

AGENCY: Federal Transit Administration (FTA), DOT.

ACTION: Notice.

SUMMARY: The Department of Defense and Full-Year Continuing Appropriations Act, 2011 (Pub. L. 112-10), was signed into law by President Obama on April 15, 2011, appropriating funds for all of the surface transportation programs of the U.S. Department of Transportation (DOT) for the remainder of the Fiscal Year (FY) ending September 30, 2011. This Notice supplements the February 8, 2011 Federal Register notice that provided a partial apportionment of FY 2011 formula funds.

FOR FURTHER INFORMATION CONTACT: For general information about this notice contact Kimberly Sledge, Office of Program Management, at (202) 366-2053. Please contact the appropriate FTA regional or metropolitan office for any specific requests for information or technical assistance. The appendix at the end of this notice includes contact information for FTA regional and metropolitan offices.

SUPPLEMENTARY INFORMATION:

Table of Contents

I. Overview

II. FY 2011 Available Funding for FTA Programs

A. Available funding based on the Department of Defense and Full-Year Continuing Appropriations Act, 2011 (Pub. L. 112-10)

B. Morgantown, West Virginia Technical Correction

C. FY 2011 Discretionary Program Funds

III. FTA Program Funding Tables

1. FTA—FY 2011 Appropriations and Apportionments for Grant Programs

2. FTA—FY 2011 Metropolitan Planning Program and Statewide Planning and Research Program Apportionments

3. FTA—FY 2011 Section 5307 and Section 5340 Urbanized Area Apportionments

4. FTA FY 2011 Section 5307 Apportionment Formula

5. FTA FY 2011 Formula Programs Apportionments Data Unit Values

6. FTA FY 2011 Small Transit Intensive Cities Performance Data and Apportionments

7. FTA FY 2011 Section 5309 Fixed Guideway Modernization Apportionments

8. FTA Fixed Guideway Modernization Formula

9. FTA FY 2011 Special Needs for Elderly Individuals and Individuals With Disabilities Apportionments

10. FTA FY 2011 Section 5311 and Section 5340 Nonurbanized Area Formula Apportionments, and Rural Transportation Assistance Program (RTAP) Allocations

11. FTA Fy 2011 Section 5316 Job Access and Reverse Commute (JARC) Apportionments

12. FTA FY 2011 Section 5317 New Freedom Apportionments

Appendix

I. Overview

Congress enacted an extension of FTA's current authorization, the Safe, Accountable, Flexible, Efficient, Transportation Equity Act: A Legacy for Users (SAFETEA-LU), through September 30, 2011 in the Surface Transportation Extension Act, 2011 (Pub. L. 112-5). Since that time, Congress has also enacted the Department of Defense and Full-Year Continuing Appropriations Act, 2011 (Pub. L. 112-10), hereinafter “Appropriations Act, 2011,” which sets an obligation limitation for Formula and Bus programs and funds other Federal transit programs of DOT through September 30, 2011. This Notice provides the remaining formula funds and full year appropriations for FTA discretionary programs.

II. FY 2011 Available Funding for FTA Programs

A. Funding Based on the Department of Defense and Full-Year Continuing Appropriations Act, 2011 (Pub. L. 112-10)

The Appropriations Act, 2011 included a total of almost $10.3 billion for FTA programs in obligation limitation of contract authority under the Mass Transit account (MTA) and new appropriations of general funds.

In addition, in FY 2010, Congress appropriated an obligation limitation for the Formula and Bus programs that was slightly lower than the FY 2010 authorized contract authority for those programs creating a $17.39 million difference in FY 2010. This additional contract authority is now available and this Notice apportions these FY 2010 funds to the Formula and Bus programs in addition to the FY 2011 full year apportionment. See Section II of FTA's Supplemental Fiscal Year 2010 Apportionments and Allocations Federal Register Notice (FR May 13, 2010 Vol. 75, No. 92) for detailed information.

New FY 2011 funding levels also reflect a $17.39 million difference between the authorized contract authority level and appropriated obligation limitation for Formula and Bus programs.

For other programs, a .2 percent across-the-board rescission for appropriated funds applies as well. The rescission was applied to the budget authority provided for fiscal year 2011 for any discretionary account and the budget authority provided in any advance appropriation for fiscal year 2011 for discretionary accounts in any prior fiscal year appropriation Act. The rescission, however, does not affect contract authority or obligation limitation for Formula and Bus programs.

B. Morgantown, West Virginia Technical Correction

In the course of preparing FTA's Fiscal Year 2010 supplemental apportionment tables, the fixed guideway direct route miles and vehicle revenue miles associated with the Morgantown, West Virginia urbanized area were inadvertently included in its Section 5307 Urbanized Area Formula program calculations. The resulting Section 5307 apportionment table published in FTA's Supplemental Fiscal Year 2010 Apportionments and Allocations Federal Register Notice (FR May 13, 2010 Vol. 75, No. 92) displayed an allotment for the Morgantown, WV urbanized area that was $751,158 in excess of what the urbanized area should have received under the Section 5307 formula. FTA corrected the Morgantown apportionment record in its grants systems to limit Morgantown's allocation to what should have been received in FY 2010. With the publication of this notice, FTA apportions the $751,158 to those urbanized areas eligible to receive funds under the Fixed Guideway Tier of the Section 5307 program, in proportion to the formula factors of the Fixed Guideway Tier.

C. FY 2011 Discretionary Program Funds

The Appropriations Act, 2011 did not include any project specific Congressional designations. Accordingly, FTA has $2.73 billion in discretionary funds available for allocation. It is FTA's intent to publish Notices of Funding Availability (NOFA) for most discretionary programs no later than early Fall 2011. The Major Capital Investment program, commonly referred to as the New Starts and Small Starts programs, will be excluded because the program has an ongoing project development and review process, and funding will be allocated consistent with information already available to FTA. Additionally, FTA plans to consolidate multiple programs into single discretionary solicitations of proposals that further specific Department of Transportation Strategic Goals, consistent with the approach used for FY 2010 funds.

Issued in Washington, DC, this 13th day of May, 2011.
Peter Rogoff,
Administrator.

Appendix A

FTA Regional and Metropolitan Offices
Mary Beth Mello, Regional Administrator, Region 1-Boston, Kendall Square, 55 Broadway, Suite 920, Cambridge, MA 02142-1093, Tel. 617-494-2055. | Robert C. Patrick, Regional Administrator, Region 6-Ft. Worth, 819 Taylor Street, Room 8A36, Ft. Worth, TX 76102, Tel. 817-978-0550.
States served: Connecticut, Maine, Massachusetts, New Hampshire, Rhode, Island, and Vermont. | States served: Arkansas, Louisiana, Oklahoma, New Mexico, and Texas.
Brigid Hynes-Cherin, Regional Administrator, Region 2-New York, One Bowling Green, Room 429, New York, NY 10004-1415, Tel. 212-668-2170. | Mokhtee Ahmad, Regional Administrator, Region 7-Kansas City, MO, 901 Locust Street, Room 404, Kansas City, MO 64106, Tel. 816-329-3920.
States served: New Jersey, New York. | States served: Iowa, Kansas, Missouri, and Nebraska.
New York Metropolitan Office, Region 2-New York, One Bowling Green, Room 428, New York, NY 10004-1415, Tel. 212-668-2202.
Letitia Thompson, Regional Administrator, Region 3-Philadelphia, 1760 Market Street, Suite 500, Philadelphia, PA 19103-4124, Tel. 215-656-7100. | Terry Rosapep, Regional Administrator, Region 8-Denver, 12300 West Dakota Ave., Suite 310, Lakewood, CO 80228-2583, Tel. 720-963-3300,
States served: Delaware, Maryland, Pennsylvania, Virginia, West Virginia, and District of Columbia. | States served: Colorado, Montana, North Dakota, South Dakota, Utah, and Wyoming.
Philadelphia Metropolitan Office, Region 3-Philadelphia, 1760 Market Street, Suite 500, Philadelphia, PA 19103-4124, Tel. 215-656-7070.
Washington, DC Metropolitan Office, 1990 K Street, NW., Room 510, Washington, DC 20006, Tel. 202-219-3562.
Yvette Taylor, Regional Administrator, Region 4-Atlanta, 230 Peachtree Street, NW., Suite 800, Atlanta, GA 30303, Tel. 404-865-5600. | Leslie T. Rogers, Regional Administrator, Region 9-San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands. Los Angeles Metropolitan Office, Region 9-Los Angeles, 888 S. Figueroa Street, Suite 1850, Los Angeles, CA 90017-1850, Tel. 213-202-3952.
Marisol Simon, Regional Administrator, Region 5-Chicago, 200 West Adams Street, Suite 320, Chicago, IL 60606, Tel. 312-353-2789. | Rick Krochalis, Regional Administrator, Region 10-Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5-Chicago, 200 West Adams Street, Suite 320, Chicago, IL 60606, Tel. 312-353-2789.

BILLING CODE P

[FR Doc. 2011-12348 Filed 5-20-11; 8:45 am]

BILLING CODE C